DEPARTMENT OF TRANSPORTATION

Federal Railroad Administration

Docket Number FRA-2010-0154

Notice of Application for Approval of Discontinuance or Modification of a Railroad Signal System

Pursuant to Title 49 Code of Federal Regulations (CFR) part 235 and 49 U.S.C. 20502(a), the following railroad has petitioned the Federal Railroad Administration (FRA) seeking approval for the discontinuance or modification of the signal system as detailed below.

Applicant: Massachusetts Bay Commuter Railroad Company: Mr. John B. Mitchell, Deputy Chief of Engineering Operations, Massachusetts Bay Commuter Railroad Company, 32 Cobble Hill Road—Suite 3, Somerville, MA 02143-4431.

The Massachusetts Bay Commuter Railroad Company (MBCR) seeks approval of the proposed modification of the signal system on the Fitchburg Commuter Rail Line from milepost (MP) 1.4 Swift Interlocking, in Sommerville, Massachusetts, to but not including MP 25.6 CP—Martin St., in Acton, MA. By contract with the owner, the Massachusetts Bay Transportation Authority (MBTA), and in conjunction with the Small Starts American Recovery and Rehabilitation Act (ARRA), MBCR will be installing electronic track circuits on both tracks 1 and 2 to facilitate a bi-directional operation. New interlockings will be installed at MP 6, Horgan; MP 9, Beaver Brook; MP 10, Moody; MP 18, Hills; and MP 25, Maynard Junction. All interlockings will be equipped with colorlight LED type signal heads and electric switch machines.

The interlockings at West Cambridge, Hill Crossing, and Clematis Brook will be retired and South Acton will become Maynard Junction. The mechanical bed-locking interlocking machine at Waltham Tower will be retired. Twenty-six existing automatic searchlight style signals will be retired, with twenty new automatic signals installed. The proposed modifications will retire a signal system comprised of dc neutral, mechanical, and searchlight type relays, and traffic control circuitry that operates via line wire and cable. Control of the territory will be transferred into the Commuter Rail Operations Control Center in Somerville, MA. This project is part of several projects designed to decrease passenger train trip time between Fitchburg, and Boston, MA.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (Docket No. FRA-2010-0154) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, and labor union, etc.). You may review DOT's complete Privacy Act Statement in the Federal Register published on April 11, 2000 (Volume 65, Number 70; Pages 19477-78).

Issued in Washington, DC, on December 1, 2010.
Robert C. Lauby,
Deputy Associate Administrator for Regulatory and Legislative Operations.

[FR Doc. 2010-30533 Filed 12-6-10; 8:45 am]

BILLING CODE 4910-06-P